DEPARTMENT OF HEALTH AND HUMAN SERVICES

Administration for Children and Families

Request for Public Comment; National Human Trafficking Prevention Framework

AGENCY: Office on Trafficking in Persons, Administration for Children and Families, U.S. Department of Health and Human Services.

ACTION: Request for public comments.

SUMMARY: This notice informs the public of the opportunity to provide input on the U.S. Department of Health and Human Services' (HHS) National Human Trafficking Prevention Framework (Framework), which contains strategies and approaches to prevent human trafficking and its recurrence while increasing capacity to identify and reduce harm caused by human trafficking. HHS will consider this input as it updates the Framework. The draft Framework is available at https://www.acf.hhs.gov/otip.

DATES: Submissions must be received by 5 p.m. EDT on June 9, 2023.

ADDRESSES: Please submit all responses via email to EndTrafficking@acf.hhs.gov with “Public Comment: Prevention Framework” in the subject. Submissions can include attachments of or links to any supporting documentation. Please provide your contact information for possible follow-up from the Office on Trafficking in Persons.

FOR FURTHER INFORMATION CONTACT: Kimberly Casey, Communications and Prevention Specialist, Office on Trafficking in Persons, Email: Kimberly.Casey@acf.hhs.gov, Phone: 202-594-7026.

SUPPLEMENTARY INFORMATION:

Background

The International Labor Organization estimates 27.6 million people were experiencing forced labor and/or commercial sexual exploitation globally on any given day in 2021. The global prevalence of human trafficking increased from 3.4 to 3.5 per thousand people between 2016 and 2021, driven entirely by the private economy. Although there is still no rigorous prevalence estimate of human trafficking within the United States, cases of human trafficking have been reported in all 50 states and the District of Columbia, on tribal land, and within U.S. territories.

Human trafficking is a public health issue and crime with adverse physical and mental health, developmental, financial, and social effects, which often reach beyond the individual directly impacted to affect families, communities, industries, and society at large. In response to the U.S. Government's recognition that human trafficking is both a transnational and national issue of significant concern, the Trafficking Victims Protection Act of 2000 (TVPA) and its subsequent reauthorizations created a three-pronged (“3P”) federal framework to address human trafficking—prevention, protection, and prosecution. A fourth “P”—for partnership—serves as a complementary means to achieve progress across the 3Ps and engage multiple sectors of society in the work to address human trafficking. Steady progress has been made since the TVPA was first authorized; however, efforts to assemble a focused array of prevention strategies addressing both victimization and perpetration, while essential, are largely absent.

Establishing the Prevention Framework

HHS plays a critical role in the U.S. Government's efforts to prevent and respond to human trafficking. The HHS Task Force to Prevent Human Trafficking, comprised of 21 divisions and offices across HHS, helps implement HHS's priority actions in the National Action Plan to Combat Human Trafficking and related national strategies. The Framework contributes to the implementation of National Action Plan Priority Action 1.1.2 to increase the scale and quality of human trafficking prevention efforts utilizing a collective impact strategy.

The Framework is informed by a public health approach to violence prevention, recognizing human trafficking is not an isolated incident but a widespread issue impacting the health and well-being of individuals, families, and communities across generations. Human trafficking is a dynamic form of violence, shifting and adapting as traffickers refine recruitment schemes, methods of control, and modes of exploitation. As understanding and knowledge of human trafficking grow, strategies to address it must evolve as well. Treating human trafficking as a public health concern grants a renewed sense of urgency and fundamentally alters how collaborators prevent and respond to it.

A public health approach to human trafficking is proactive rather than reactionary, moving upstream to identify prevention measures that, combined with downstream interventions, can decrease the number of people who experience trafficking. Focusing on three levels of prevention—primary, secondary, and tertiary—a public health approach seeks to stop human trafficking before it occurs, reduce its impact or duration, mitigate lasting effects, and prevent it from recurring.

The Framework harnesses established concepts of violence prevention to strengthen efforts to prevent human trafficking, outlining strategies and approaches that diverse sectors of society can use to prevent human trafficking and its recurrence while increasing their capacity to identify and reduce harm caused by human trafficking. The Framework encourages collaboration, coordination, and integration to enhance human trafficking prevention, inviting partnerships with federal, state, tribal, territorial, and local governments; business, industry, and other private sector entities; nonprofits and non-governmental organizations; educational institutions; and philanthropic, faith-based, and research organizations; and more. Through this collective effort, HHS and its partners will be prepared to test and scale solutions that will prevent human trafficking and improve the lives of people affected by human trafficking across the United States.

Comments: HHS is seeking public feedback on the Framework, including comments on understandability and suggested changes. HHS will use comments to make updates to the Framework as needed.

Dated: May 25, 2023.
Linda Hitt,
Executive Secretariat.

[FR Doc. 2023-11605 Filed 5-31-23; 8:45 am]

BILLING CODE 4184-48-P